DEPARTMENT OF LABOR

Mine Safety and Health Administration

Petitions for Modification

The following parties have filed petitions to modify the application of existing safety standards under section 101(c) of the Federal Mine Safety and Health Act of 1977.

1. Highland Mining Company

[Docket No. M-2001-001-C]

Highland Mining Company, 1951 Barrett Court, P.O. Box 1990, Henderson, Kentucky 42419-1990 has filed a petition to modify the application of 30 CFR 75.1905(a) (dispensing of diesel fuel) to its Highland Mine (I.D. No. 15-02709) located in Union County, Kentucky. The petitioner requests a modification of the existing standard to allow underground diesel fueled vehicles to be refueled from a surface diesel fuel storage tank. The petitioner asserts that the proposed alternative method would provide at least the same measure of protection as the existing standard.

2. Kentucky May Mining Company

[Docket No. M-2001-002-C]

Kentucky May Mining Company, P.O. Box 462, Stanville, Kentucky 41659 has filed a petition to modify the application of 30 CFR 75.503 (permissible electric face equipment; maintenance) and 30 CFR 18.41(f) (plug and receptacle-type connectors) to its Genesis Mine No. 1 (I.D. No. 15-17452) located in Knott County, Kentucky. The petitioner proposes to use a permanently installed spring-loaded device on mobile battery-powered equipment instead of using padlocks, to prevent unintentional loosening of battery plugs from battery receptacles and to eliminate the hazards associated with difficult removal of padlocks during emergency situations. The petitioner asserts that application of the existing standard would result in a diminution of safety to the miners and that the proposed alternative method would provide at least the same measure of protection as the existing standard.

3. Eagle Coal Company, Inc.

[Docket No. M-2001-003-C]

Eagle Coal Company, Inc., P.O. Box 399, Lovely, Kentucky 41231 has filed a petition to modify the application of 30 CFR 75.503 (permissible electric face equipment; maintenance) and 30 CFR 18.41(f) (plug and receptacle-type connectors) to its No. 18 Mine (I.D. No. 15-18307) located in Martin County, Kentucky. The petitioner proposes to use a permanently installed spring-loaded device on mobile battery-powered equipment instead of using padlocks, to prevent unintentional loosening of battery plugs from battery receptacles and to eliminate the hazards associated with difficult removal of padlocks during emergency situations. The petitioner asserts that application of the existing standard would result in a diminution of safety to the miners and that the proposed alternative method would provide at least the same measure of protection as the existing standard.

4. Long Fork Development, Inc.

[Docket No. M-2001-004-C]

Long Fork Development, Inc., P.O. Box 480, Lovely, Kentucky 41231 has filed a petition to modify the application of 30 CFR 75.503 (permissible electric face equipment; maintenance) and 30 CFR 18.41(f) (plug and receptacle-type connectors) to its No. 5 Mine (I.D. No. 15-18279) located in Martin County, Kentucky. The petitioner proposes to use a permanently installed spring-loaded device on mobile battery-powered equipment instead of using padlocks, to prevent unintentional loosening of battery plugs from battery receptacles and to eliminate the hazards associated with difficult removal of padlocks during emergency situations. The petitioner asserts that application of the existing standard would result in a diminution of safety to the miners and that the proposed alternative method would provide at least the same measure of protection as the existing standard.

5. Taurus Coal Company, Inc.

[Docket No. M-2001-005-C]

Taurus Coal Company, Inc., P.O. Box 480, Lovely, Kentucky 41231 has filed a petition to modify the application of 30 CFR 75.503 (permissible electric face equipment; maintenance) and 30 CFR 18.41(f) (plug and receptacle-type connectors) to its No. 8 Mine (I.D. No. 15-18239) located in Johnson County, Kentucky. The petitioner proposes to use a permanently installed spring-loaded device on mobile battery-powered equipment instead of using padlocks, to prevent unintentional loosening of battery plugs from battery receptacles and to eliminate the hazards associated with difficult removal of padlocks during emergency situations. The petitioner asserts that application of the existing standard would result in a diminution of safety to the miners and that the proposed alternative method would provide at least the same measure of protection as the existing standard.

6. Coalburg Enterprises, Inc.

[Docket No. M-2001-006-C]

Coalburg Enterprises, Inc., P.O. Box 399, Lovely, Kentucky 41231 has filed a petition to modify the application of 30 CFR 75.503 (permissible electric face equipment; maintenance) and 30 CFR 18.41(f) (plug and receptacle-type connectors) to its No. 1 Mine (I.D. No. 15-17559) located in Martin County, Kentucky. The petitioner proposes to use a permanently installed spring-loaded device on mobile battery-powered equipment instead of using padlocks, to prevent unintentional loosening of battery plugs from battery receptacles and to eliminate the hazards associated with difficult removal of padlocks during emergency situations. The petitioner asserts that application of the existing standard would result in a diminution of safety to the miners and that the proposed alternative method would provide at least the same measure of protection as the existing standard.

7. Beech Fork Processing, Inc.

[Docket No. M-2001-007-C]

Beech Fork Processing, Inc., P.O. Box 190, Lovely, Kentucky 41231 has filed a petition to modify the application of 30 CFR 75.503 (permissible electric face equipment; maintenance) and 30 CFR 18.41(f) (plug and receptacle-type connectors) to its No. 3 Mine (I.D. No. 15-18170) located in Martin County, Kentucky. The petitioner proposes to use a permanently installed spring-loaded device on mobile battery-powered equipment instead of using padlocks, to prevent unintentional loosening of battery plugs from battery receptacles and to eliminate the hazards associated with difficult removal of padlocks during emergency situations. The petitioner asserts that application of the existing standard would result in a diminution of safety to the miners and that the proposed alternative method would provide at least the same measure of protection as the existing standard.

8. Beech Fork Processing, Inc.

[Docket No. M-2001-008-C]

Beech Fork Processing, Inc., P.O. Box 190, Lovely, Kentucky 41231 has filed a petition to modify the application of 30 CFR 75.503 (permissible electric face equipment; maintenance) and 30 CFR 18.41(f) (plug and receptacle-type connectors) to its No. 2 Mine (I.D. No. 15-18128) located in Martin County, Kentucky. The petitioner proposes to use a permanently installed spring-loaded device on mobile battery-powered equipment instead of using padlocks, to prevent unintentional loosening of battery plugs from battery receptacles and to eliminate the hazards associated with difficult removal of padlocks during emergency situations. The petitioner asserts that application of the existing standard would result in a diminution of safety to the miners and that the proposed alternative method would provide at least the same measure of protection as the existing standard.

9. Eagle Coal Company, Inc.

[Docket No. M-2001-009-C]

Eagle Coal Company, Inc., P.O. Box 399, Lovely, Kentucky 41231 has filed a petition to modify the application of 30 CFR 75.503 (permissible electric face equipment; maintenance) and 30 CFR 18.41(f) (plug and receptacle-type connectors) to its No. 7 Mine (I.D. No. 15-17696) located in Johnson County, Kentucky. The petitioner proposes to use a permanently installed spring-loaded device on mobile battery-powered equipment instead of using padlocks, to prevent unintentional loosening of battery plugs from battery receptacles and to eliminate the hazards associated with difficult removal of padlocks during emergency situations. The petitioner asserts that application of the existing standard would result in a diminution of safety to the miners and that the proposed alternative method would provide at least the same measure of protection as the existing standard.

10. RAG Emerald Resources, LP

[Docket No. M-2001-010-C]

RAG Emerald Resources, LP, One Oxford Centre, 301 Grant Street, 20th Floor, Pittsburgh, Pennsylvania 15219-1410 has filed a petition to modify the application of 30 CFR 75.360(b)(10) (preshift examination) to its Emerald Mine (I.D. No. 36-05466) located in Greene County, Pennsylvania. The petitioner requests a modification of the existing standard to permit examinations to be conducted immediately before work commences in certain areas where work is scheduled before the preshift examination starts. The petitioner asserts that the proposed alternative method would provide at least the same measure of protection as the existing standard.

11. C.W. Mining Company

[Docket No. M-2001-011-C]

C.W. Mining Company, P.O. Box 1245, Huntington, Utah 84528 has filed a petition to modify the application of 30 CFR 75.701 (grounding metallic frames, casings, and other enclosures of electric equipment) to its Bear Canyon #1 Mine (I.D. No. 42-01697), Bear Canyon Mine #2 (I.D. No. 42-02095), and Bear Canyon Mine #3 (I.D. No. 42-02263) all located in Emery County, Utah. The petitioner proposes to use a 480-volt, wye connected, (275 KW/356 KVA) diesel-powered generator for utility power and to move electrically powered mining equipment in and around the mine. The generator, serial number is I3379E, 480-volt output would be connected through a 285-KVA step-up transformer to develop 995-volts. The petitioner asserts that the proposed alternative method would provide at least the same measure of protection as the existing standard.

12. C.W. Mining Company

[Docket No. M-2001-012-C]

C.W. Mining Company, P.O. Box 300, Huntington, Utah 84528 has filed a petition to modify the application of 30 CFR 75.901 (protection of low-and medium-voltage three-phase circuits used underground) to its Bear Canyon #1 Mine (I.D. No. 42-01697), Bear Canyon #2 Mine (I.D. No. 42-02095), and Bear Canyon #3 Mine (I.D. No. 42-02263) all located in Emery County, Utah. The petitioner proposes to use a 480-volt, wye connected, (275KW/356 KVA) diesel-powered generator for utility power and to move electrically powered mining equipment in and around the mine. The generator, serial number is I3379E, 480-volt output would be connected through a 285-KVA step-up transformer to develop 995-volts. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before May 10, 2001. Copies of these petitions are available for inspection at that address.

Dated at Arlington, Virginia this 27th day of March 2001.
David L. Meyer,
Director, Office of Standards, Regulations, and Variances.

[FR Doc. 01-8733 Filed 4-9-01; 8:45 am]

BILLING CODE 4510-43-U